Title 3—

The President

Executive Order 13399 of April 25, 2006

Blocking Property of Additional Persons in Connection With the National Emergency With Respect to Syria

By the authority vested in me as President by the Constitution and the laws of the United States of America, including the International Emergency Economic Powers Act (50 U.S.C. 1701 et seq.) (IEEPA), the National Emergencies Act (50 U.S.C. 1601 et seq.), section 5 of the United Nations Participation Act, as amended (22 U.S.C. 287c) (UNPA), and section 301 of title 3, United States Code; and in view of United Nations Security Council Resolution (UNSCR) 1636 of October 31, 2005,

I, GEORGE W. BUSH, President of the United States of America, determine that it is in the interests of the United States to (1) assist the international independent investigation Commission (the “Commission”) established pursuant to UNSCR 1595 of April 7, 2005, (2) assist the Government of Lebanon in identifying and holding accountable in accordance with applicable law those persons who were involved in planning, sponsoring, organizing, or perpetrating the terrorist act in Beirut, Lebanon, on February 14, 2005, that resulted in the assassination of former Prime Minister of Lebanon Rafiq Hariri, and the deaths of 22 others, and other bombings or assassination attempts in Lebanon since October 1, 2004, that are related to Hariri's assassination or that implicate the Government of Syria or its officers or agents, and (3) take note of the Commission's conclusions in its report of October 19, 2005, that there is converging evidence pointing to both Lebanese and Syrian involvement in terrorist acts, that interviewees tried to mislead the Commission's investigation by giving false or inaccurate statements, and that a senior official of Syria submitted false information to the Commission. In light of these determinations, and to take additional steps with respect to the national emergency declared in Executive Order 13338 of May 11, 2004, concerning certain actions of the Government of Syria, I hereby order:

Section 1. (a) Except to the extent that sections 203(b)(1), (3), and (4) of IEEPA (50 U.S.C. 1702(b)(1), (3) and (4)) may apply, or to the extent provided in regulations, orders, directives, or licenses that may be issued pursuant to this order, and notwithstanding any contract entered into or any license or permit granted prior to the effective date of this order, all property and interests in property that are in the United States, that hereafter come within the United States, or that are or hereafter come within the possession or control of any United States person, including any overseas branch, of the following persons are blocked and may not be transferred, paid, exported, withdrawn, or otherwise dealt in: persons determined by the Secretary of the Treasury, after consultation with the Secretary of State,

(i) to be, or to have been, involved in the planning, sponsoring, organizing, or perpetrating of:

(A) the terrorist act in Beirut, Lebanon, that resulted in the assassination of former Lebanese Prime Minister Rafiq Hariri and the deaths of 22 others; or

(B) any other bombing, assassination, or assassination attempt in Lebanon since October 1, 2004, that is related to Hariri's assassination or that implicates the Government of Syria or its officers or agents;

(ii) to have obstructed or otherwise impeded the work of the Commission established pursuant to UNSCR 1595;

(iii) to have materially assisted, sponsored, or provided financial, material, or technological support for, or goods or services in support of, any such terrorist act, bombing, or assassination attempt, or any person designated pursuant to this order; or

(iv) to be owned or controlled by, or acting or purporting to act for or on behalf of, directly or indirectly, any person designated pursuant to this order.

(b) I hereby determine that, to the extent section 203(b)(2) of IEEPA (50 U.S.C. 1702(b)(2)) may apply, the making of donations of the type of articles specified in such section by, to, or for the benefit of any person designated pursuant to this order would seriously impair my ability to deal with the national emergency declared in Executive Order 13338, and I hereby prohibit such donations as provided by paragraph (a) of this section.

(c) The prohibitions in paragraph (a) of this section include but are not limited to (i) the making of any contribution or provision of funds, goods, or services by, to, or for the benefit of any person designated pursuant to this order, and (ii) the receipt of any contribution or provision of funds, goods, or services from any such person.

Sec. 2. (a) Any transaction by a United States person or within the United States that evades or avoids, has the purpose of evading or avoiding, or attempts to violate any of the prohibitions set forth in this order is prohibited.

(b) Any conspiracy formed to violate any of the prohibitions set forth in this order is prohibited.

Sec. 3. For the purposes of this order:

(a) the term “person” means an individual or entity;

(b) the term “entity” means a partnership, association, trust, joint venture, corporation, group, subgroup, or other organization; and

(c) the term “United States person” means any United States citizen, permanent resident alien, entity organized under the laws of the United States or any jurisdiction within the United States (including foreign branches), or any person in the United States.

Sec. 4. For those persons designated pursuant to this order who might have a constitutional presence in the United States, I find that, because of the ability to transfer funds or other assets instantaneously, prior notice to such persons of measures to be taken pursuant to this order would render these measures ineffectual. I therefore determine that for these measures to be effective in addressing the national emergency declared in Executive Order 13338, there need be no prior notice of a determination made pursuant to section 1(a) of this order.

Sec. 5. The Secretary of the Treasury, after consultation with the Secretary of State, is hereby authorized to take such actions, including the promulgation of rules and regulations, and to employ all powers granted to the President by IEEPA and UNPA, as may be necessary to carry out the purposes of this order. The Secretary of the Treasury may redelegate any of these functions to other officers and agencies of the United States Government, consistent with applicable law. All agencies of the United States Government are hereby directed to take all appropriate measures within their authority to carry out the provisions of this order and, where appropriate, to advise the Secretary of the Treasury in a timely manner of the measures taken.

Sec. 6. This order is not intended to, and does not, create any right, benefit or privilege, substantive or procedural, enforceable at law or in equity by any party against the United States, its departments, agencies, instrumentalities, or entities, its officers or employees, or any other person.

Sec. 7. This order is effective at 12:01 a.m. eastern daylight time on April 26, 2006.

B

THE WHITE HOUSE,

April 25, 2006.

[FR Doc. 06-4085

Filed 4-27-06; 8:45 am]

Billing code 3195-01-P